DEPARTMENT OF DEFENSE

Department of the Air Force

HQ USAF Scientific Advisory Board

AGENCY: Department of the Air Force, DoD.

ACTION: Notice of meeting.

SUMMARY: Pursuant to Public Law 92-463, notice is hereby given of the forthcoming meeting of the 2003 Science and Technology Review. The purpose of the meeting is to allow the SAB and study leadership to assess the quality and long-term relevance of scientific research. Because classified and contractor-proprietary information will be discussed, this meeting will be closed to the public.

DATES: October 14-18, 2002.

ADDRESSES: Wright-Patterson Air Force Base.

FOR FURTHER INFORMATION CONTACT: Major John Pernot, Air Force Scientific Advisory Board Secretariat, 1180 Air Force Pentagon, Rm 5D982, Washington DC 20330-1180, (703) 697-4811.

Pamela D. Fitzgerald,
Air Force Federal Register Liaison Officer.

[FR Doc. 02-23973 Filed 9-19-02; 8:45 am]

BILLING CODE 5001-05-P